DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the semiannual agenda of Department of the Interior (Department) rules scheduled for review or development between Spring 2021 and Spring 2022. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 208-5257.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects. The complete Unified Agenda will be published at www.reginfo.gov, in a format that offers users enhanced ability to obtain information from the Agenda database. Agenda information is also available at www.regulations.gov, the government-wide website for submission of comments on proposed regulations.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation.

Bivan Patnaik,
Deputy Director, Executive Secretariat and Regulatory Affairs.

Bureau of Safety and Environmental Enforcement—Proposed Rule Stage
Sequence No. | Title | Regulation Identifier No.
142 | Oil and Gas and Sulfur Operations in the Outer Continental Shelf-Blowout Preventer Systems and Well Control Revisions | 1014-AA52

Bureau of Safety and Environmental Enforcement—Completed Actions
Sequence No. | Title | Regulation Identifier No.
143 | Update of Regulations on Relief or Reduction in Royalty Rates | 1014-AA50

Assistant Secretary for Land and Minerals Management—Final Rule Stage
Sequence No. | Title | Regulation Identifier No.
144 | Risk Management, Financial Assurance and Loss Prevention | 1082-AA02

Assistant Secretary for Land and Minerals Management—Completed Actions
Sequence No. | Title | Regulation Identifier No.
145 | Revisions to the Requirements for Exploratory Drilling on the Arctic Outer Continental Shelf | 1082-AA01

United States Fish and Wildlife Service—Proposed Rule Stage
Sequence No. | Title | Regulation Identifier No.
146 | Migratory Bird Hunting; 2021-22 Migratory Game Bird Hunting Regulations | 1018-BE34
147 | Migratory Bird Hunting; 2022-23 Migratory Game Bird Hunting Regulations | 1018-BF07
148 | Migratory Bird Hunting; 2023-24 Migratory Game Bird Hunting Regulations | 1018-BF64

United States Fish and Wildlife Service—Long-Term Actions
Sequence No. | Title | Regulation Identifier No.
149 | Importation, Exportation and Transportation of Wildlife; Updates to the Regulations | 1018-BF16

Bureau of Ocean Energy Management—Long-Term Actions
Sequence No. | Title | Regulation Identifier No.
150 | Air Quality Rule (Section 610 Review) | 1010-AE09

DEPARTMENT OF THE INTERIOR (DOI)

Bureau of Safety and Environmental Enforcement (BSEE)

Proposed Rule Stage

142. • Oil and Gas and Sulfur Operations in the Outer Continental Shelf-Blowout Preventer Systems and Well Control Revisions

Legal Authority: Not Yet Determined

Abstract: The Bureau of Safety and Environmental Enforcement (BSEE) is revising existing regulations for well control and blowout preventer systems.

Timetable:

Action | Date | FR Cite
NPRM | 09/00/21
NPRM Comment Period End | 11/00/21

Regulatory Flexibility Analysis Required: Yes.

Agency Contact: Kirk Malstrom, Chief, Regulations and Standards Branch, Department of the Interior, Bureau of Safety and Environmental Enforcement, 45600 Woodland Road, Sterling, VA 20166, Phone: 703 787-1751, Fax: 703 787-1555, Email: kirk.malstrom@bsee.gov.

RIN: 1014-AA52

DEPARTMENT OF THE INTERIOR (DOI)

Bureau of Safety and Environmental Enforcement (BSEE)

Completed Actions

143. Update of Regulations on Relief or Reduction in Royalty Rates

Legal Authority: 43 U.S.C. 1337(a)(3)(A); 43 U.S.C. 1337(a)(3)(B)

Abstract: BSEE reviewed its current regulations pertaining to royalty relief and is no longer considering the previously proposed modifications.

Timetable:

Action | Date | FR Cite
Withdrawn | 03/19/21

Regulatory Flexibility Analysis Required: Yes.

Agency Contact: Kirk Malstrom, Chief, Regulations and Standards Branch, Department of the Interior, Bureau of Safety and Environmental Enforcement, 45600 Woodland Road, Sterling, VA 20166, Phone: 703 787-1751 Fax: 703 787-1555, Email: kirk.malstrom@bsee.gov.

RIN: 1014-AA50

DEPARTMENT OF THE INTERIOR (DOI)

Assistant Secretary for Land and Minerals Management (ASLM)

Final Rule Stage

144. Risk Management, Financial Assurance and Loss Prevention

Legal Authority: 43 U.S.C. 1334(a)

Abstract: This joint rulemaking, between the Bureau of Ocean Energy Management (BOEM) and Bureau of Safety and Environmental Enforcement (BSEE), will revise policies for oil and gas operations on the Outer Continental Shelf (OCS) concerning operator compliance with financial and performance obligations.

Timetable:

Action | Date | FR Cite
NPRM | 10/16/20 | 85 FR 65904
NPRM Comment Period End | 12/15/20 |
Final Action | 10/00/21 |
Final Action Effective | 11/00/21 |

Regulatory Flexibility Analysis Required: Yes.

Agency Contact: Steven Mullen, Management Analyst, Department of the Interior, U.S. Department of the Interior, Office of the Secretary, 1849 C Street NW, Room 7321, Washington, DC 20240, Phone: 202 213-6400, Email: steven_mullen@ios.doi.gov.

RIN: 1082-AA02

DEPARTMENT OF THE INTERIOR (DOI)

Assistant Secretary for Land and Minerals Management (ASLM)

Completed Actions

145. Revisions to the Requirement for Exploratory Drilling on the Artic Outer Continental Shelf

Legal Authority: 43 U.S.C. 1334(a); 33 U.S.C. 2701 ch. 40

Abstract: This joint rulemaking, between the Bureau of Ocean Energy Management (BOEM) and Bureau of Safety and Environmental Enforcement (BSEE), is withdrawn. BSEE and BOEM reviewed the Arctic-specific regulations for exploratory drilling and are no longer considering the previously proposed modifications.

Timetable:

Action | Date | FR Cite
NPRM | 12/09/20 | 85 FR 79266
NPRM Comment Period End | 02/08/21 |
NPRM Comment Period Reopened | 02/10/21 | 86 FR 8878
NPRM Comment Period Reopened End | 04/09/21 |
Withdrawn | 04/13/21 |

Regulatory Flexibility Analysis Required: Yes.

Agency Contact: Steven Mullen, Management Analyst, Department of the Interior, U.S. Department of the Interior, Office of the Secretary, 1849 C Street NW, Room 7321, Washington, DC 20240, Phone: 202 213-6400, Email: steven_mullen@ios.doi.gov.

RIN: 1082-AA01

DEPARTMENT OF THE INTERIOR (DOI)

United States Fish and Wildlife Service (FWS)

Proposed Rule Stage

146. Migratory Bird Hunting; 2021-22 Migratory Game Bird Hunting Regulations

Legal Authority: 16 U.S.C. 703 to 712; 16 U.S.C. 742a-j

Abstract: The U.S. Fish and Wildlife Service proposes to establish annual hunting regulations for certain migratory game birds for the 2021-22 hunting season. We annually prescribe outside limits (frameworks) within which States may select hunting seasons. This proposed rule provides the regulatory schedule, announces the Service Migratory Bird Regulations Committee and Flyway Council meetings, describes the proposed regulatory alternatives for the 2021-22 duck hunting seasons, and requests proposals from Indian Tribes that wish to establish special migratory game bird hunting regulations on Federal Indian reservations and ceded lands.

Timetable:

Action | Date | FR Cite
NPRM | 10/09/20 | 85 FR 64097
NPRM Comment Period End | 11/09/20 |
NPRM—Proposed Frameworks | 02/22/21 | 86 FR 10622
NPRM Comment Period End | 03/24/21 |
NPRM—Proposed Tribal Regulations | 05/04/21 | 86 FR 23641
Final Action—Final Frameworks | 05/00/21 |
NPRM Comment Period End | 06/03/21 |
Final Action—Final Tribal Regulations | 06/00/21 |
Final Action—Season Selections | 06/00/21 |

Regulatory Flexibility Analysis Required: Yes.

Agency Contact: Jerome Ford, Assistant Director--Migratory Bird Program, Department of the Interior, United States Fish and Wildlife Service, 5275 Leesburg Pike, MS-MB, Falls Church, VA 22041-3803, Phone: 703 358-1050, Email: jerome_ford@fws.gov.

RIN: 1018-BE34

147. Migratory Bird Hunting; 2022-23 Migratory Game Bird Hunting Regulations

Legal Authority: 16 U.S.C. 703 to 712; 16 U.S.C. 742a-j

Abstract: The U.S. Fish and Wildlife Service proposes to establish annual hunting regulations for certain migratory game birds for the 2022-23 hunting season. We annually prescribe outside limits (frameworks) within which States may select hunting seasons. This proposed rule provides the regulatory schedule, announces the Service Migratory Bird Regulations Committee and Flyway Council meetings, describes the proposed regulatory alternatives for the 2022-23 duck hunting seasons, and requests proposals from Indian Tribes that wish to establish special migratory game bird hunting regulations on Federal Indian reservations and ceded lands.

Timetable:

Action | Date | FR Cite
Notice of Meeting | 03/25/21 | 86 FR 15957
Meeting | 04/06/21 |
NPRM | 06/00/21 |
NPRM—Supplemental | 07/00/21 |
NPRM—Proposed Frameworks | 12/00/21 |
NPRM—Proposed Tribal Regulations | 01/00/22 |
Final Action—Final Frameworks | 02/00/22 |
Final Action—Final Tribal Regulations | 04/00/22 |
Final Action—Season Selections | 06/00/22 |

Regulatory Flexibility Analysis Required: Yes.

Agency Contact: Jerome Ford, Assistant Director--Migratory Bird Program, Department of the Interior, United States Fish and Wildlife Service, 5275 Leesburg Pike, MS-MB, Falls Church, VA 22041-3803, Phone: 703 358-1050, Email: jerome_ford@fws.gov.

RIN: 1018-BF07

148. • Migratory Bird Hunting; 2023-24 Migratory Game Bird Hunting Regulations

Legal Authority: 16 U.S.C. 703 et seq.; 16 U.S.C. 742a-j

Abstract: This rule would establish annual hunting regulations for certain migratory game birds. The U.S. Fish and Wildlife Service annually prescribes the frameworks, or outside limits, for season lengths, bag limits, and areas for migratory game bird hunting. After these frameworks are established, States may select season dates, bag limits, and other regulatory options for their hunting seasons.

Timetable:

Action | Date | FR Cite
NPRM | 06/00/21 |

Regulatory Flexibility Analysis Required: Yes.

Agency Contact: Dr. Eric L. Kershner, Chief, Branch of Conservation, Permits, and Regulations, Department of the Interior, United States Fish and Wildlife Service, 5275 Leesburg Pike, MS: MB, Falls Church, VA 22041, Phone: 703 358-2376, Fax: 703 358-2217, Email: eric_kershner@fws.gov.

RIN: 1018-BF64

DEPARTMENT OF THE INTERIOR (DOI)

United States Fish and Wildlife Service (FWS)

Long-Term Actions

149. Importation, Exportation and Transportation of Wildlife; Updates to the Regulations

Legal Authority: 16 U.S.C. 668; 16 U.S.C. 704; 16 U.S.C. 712; 16 U.S.C. 1382; 16 U.S.C. 1538(d)-(f),; 16 U.S.C. 1540(f); 16 U.S.C. 33 8(d)-(f); 16 U.S.C. 3371 to 3378; 16 U.S.C. 4223 to 4244; 16 U.S.C. 4901 to 4916; 18 U.S.C. 42; 31 U.S.C. 42; 31 U.S.C. 9701

Abstract: We propose to rewrite our regulations governing the importation and exportation of wildlife to make these regulations easier to understand. In addition, we propose to revise the inspection fees associated with the importation and exportation of wildlife and to update the list of species that qualify as domesticated species, for which U.S. Fish and Wildlife inspection and clearance is not required. The current inspection fees have been in effect since 2012. The establishment of these fees is consistent with the Independent Offices Appropriations Act of 1952 and OMB Circular No. A-25, which provide that services provided by Federal agencies are to be self-sustaining to the extent possible and that fees assessed should be sufficient to recover the full cost to the Federal Government of providing the service and are based on market prices.

Timetable:

Action | Date | FR Cite
NPRM | To Be Determined

Regulatory Flexibility Analysis Required: Yes.

Agency Contact: Edward Grace, Assistant Director, Office of Law Enforcement, Department of the Interior, United States Fish and Wildlife Service, 5275 Leesburg Pike, MS: LEO, Falls Church, VA 22041-3803, Phone: 703 358-1949, Fax: 703 358-1947, Email: edward_grace@fws.gov.

RIN: 1018-BF16

DEPARTMENT OF THE INTERIOR (DOI)

Bureau of Ocean Energy Management (BOEM)

Long-Term Actions

150. • Air Quality Rule (Section 610 Review)

Legal Authority: OCSLA sec. 5(a)(8)

Abstract: The Bureau of Ocean Energy Management (BOEM) identified opportunities for clarifying air quality regulations.

Timetable:

Action | Date | FR Cite
NPRM | To Be Determined

Regulatory Flexibility Analysis Required: Yes.

Agency Contact: Deanna Meyer-Pietruszka, Chief, OPRA, Department of the Interior, Bureau of Ocean Energy Management, 1849 C Street NW, Washington, DC 20240, Phone: 202 208-6352, Email: deanna.meyer-pietruszka@boem.gov.

RIN: 1010-AE09

[FR Doc. 2021-14872 Filed 7-29-21; 8:45 am]

BILLING CODE 4334-63-P